DEPARTMENT OF ENERGY

Federal Energy Regulatory Commission

[Project No. 13693-000]

South Dakota Energy, L.L.C.; Notice of Preliminary Permit Application Accepted for Filing and Soliciting Comments, Motions To Intervene, and Competing Applications

May 10, 2010.

On March 29, 2010, and revised May 5, 2010, the South Dakota Energy, L.L.C. filed an application for a preliminary permit, pursuant to section 4(f) of the Federal Power Act, proposing to study the feasibility of the South Dakota Energy Hydroelectric Project located on the Missouri River in Gregory County, South Dakota. The proposed project's existing lower reservoir is owned and operated by the U.S. Army Corps of Engineers (Corps). The sole purpose of a preliminary permit, if issued, is to grant the permit holder priority to file a license application during the permit term. A preliminary permit does not authorize the permit holder to perform any land-disturbing activities or otherwise enter upon lands or waters owned by others without the owners' express permission. The proposed project boundary is partially located on Federal lands managed by the Corps.

The proposed project would consist of the following: (1) A new 60-foot-high, 15,700-foot long earth embankment dam, impounding a 450-acre upper reservoir, with 25,250 acre-feet of storage capacity at a normal elevation of 2,090 mean sea level; (2) a 30-foot-diameter, 700-foot-long vertical shaft concrete or steel power tunnel; (3) a 30-foot-diameter, 7,100-foot-long concrete or steel conduit; (4) an underground powerhouse containing four 300-megawatt reversible pump-turbine/generator units, discharging into Lake Francis Case through a 40-foot-diameter, 2,200-foot-long discharge tunnel; (5) the existing Lake Francis Case lower reservoir; (6) a new 20-mile-long, 345-kilovolt transmission line to interconnect with an existing transmission line at the Fort Randall generation facility; and (7) appurtenant facilities.

Applicant Contact: Brent Smith, Chief Operating Officer, South Dakota Energy, L.L.C., 975 South State Highway, Logan, UT 84321; phone: (435) 752-2580.

FERC Contact: Joseph C. Adamson, 202-502-8085.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13693-000) in the docket number field to access the document. For assistance, contact FERC Online Support.

Kimberly D. Bose,
Secretary.

[FR Doc. 2010-11629 Filed 5-14-10; 8:45 am]

BILLING CODE 6717-01-P